DEPARTMENT OF TRANSPORTATION

Office of the Secretary

Notice of Applications for Certificates of Public Convenience and Necessity and Foreign Air Carrier Permits Filed Under subpart B (formerly subpart Q) during the Week Ending January 10, 2003.

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-14213.

Date Filed: January 7, 2003.

Due Date for Answers, Conforming Applications, or Motion to Modify Scope: January 28, 2003.

Description: Application of Delaware Skyways, LLC, pursuant to 49 U.S.C. 41102 and subpart B, requesting a certificate of public convenience and necessity, authorizing interstate charter air transportation of persons, property, and cargo.

Dorothy Y. Beard,
Chief, Docket Operations & Media Management, Federal Register Liaison.

[FR Doc. 03-1165 Filed 1-17-03; 8:45 am]

BILLING CODE 4910-62-P